DEPARTMENT OF HOUSING AND URBAN DEVELOPMENT

[Docket No. FR-4732-C-02]

Statutory and Regulatory Waivers Granted to New York State for Recovery from the September 11, 2001 Terrorist Attacks: Technical Correction

AGENCY: Office of Community Planning and Development, HUD.

ACTION: Notice; correction.

SUMMARY: On January 28, 2002, HUD published a notice that advised the public of waivers of regulations and statutory provisions granted to the State of New York for the purpose of assisting in the recovery from the September 11, 2001, terrorist attacks on New York City, in accordance with statutory authorization to grant such waivers. This notice advises that two of the items listed in the January 28, 2002 publication (items 10 and 11) were incorrectly described as waivers or only waivers. The items, as further discussed in the Supplementary Information section of this notice, should have been described as a “waiver and alternative requirement,” and “alternative requirement,” respectively. The effective date of the waivers is February 2, 2002.

FOR FURTHER INFORMATION CONTACT: Jan C. Opper, Senior Program Officer, Office of Block Grant Assistance, Department of Housing and Urban Development, Room 7286, 451 Seventh Street, SW, Washington, DC 20410, telephone number (202) 708-3587. Persons with hearing or speech impairments may access this number via TTY by calling the Federal Information Relay Service at (800) 877-8339. FAX inquiries may be sent to Mr. Opper at (202) 401-2044. (Except for the “800” number, these telephone numbers are not toll-free.)

SUPPLEMENTARY INFORMATION: On January 28, 2002 (67 FR 4164), HUD published a notice that advised the public of waivers of regulations and statutory provisions granted to the State of New York for the purpose of assisting in the recovery from the September 11, 2001, terrorist attacks on New York City, in accordance with statutory authorization to grant such waivers. The January 28, 2002, notice discusses the statutory authority to grant such waivers and lists all of the waivers granted and specifies alternative requirements where appropriate. The January 28, 2002 notice also advised that the waivers are effective on February 2, 2002. Accordingly, FR Doc. 02-1936, is corrected to advise that items 10 and 11 listed in the January 28, 2002 notice on page 4165, middle column, were incorrectly described as waivers or waivers only and should have been described as “waiver and alternative requirement” and “alternative requirement,” respectively. The corrected description for items 10 and 11 are set out below.

10. Waiver and Alternative Requirement—Public Benefit Standards for Economic Development Activities. Currently, grantees are limited in the amount of CDBG assistance per job retained or created, or amount of CDBG assistance per low- and moderate-income person to which goods or services are provided by the activity, that will be considered to meet public benefit standards. Public benefit standards at 42 U.S.C. 5305(e)(3) and 24 CFR 570.482(f)(1), (2), (3), (4)(i), (5), (6) are waived, except that the grantee shall report and maintain documentation on the creation and retention of (a) total jobs, (b) number of jobs within certain salary ranges, and (c) types of jobs. Paragraph (g) of 24 CFR 570.482 is also waived to the extent its provisions are related to public benefit.

11. Alternative Requirement—Duplication of Benefits. The CDBG funds appropriated under the Emergency Response Fund may not be used to provide funds for the same specific uses as disaster loans made available by the Small Business Administration (SBA), in compliance with 15 U.S.C. 636(b)(1)(A). If the needs for assistance are more than the SBA disaster loan amount, CDBG disaster assistance may be used to fund such additional need. New York State should encourage the use of SBA physical damage and economic injury disaster loans; they offer low interest rates and favorable terms. Additionally, CDBG disaster assistance may not be used for the same specific uses as disaster assistance made available by the Federal Emergency Management Agency, e.g., for public works and facilities, in compliance with duplication of benefits prohibitions of 42 U.S.C. 5155 (section 312 of the Robert T. Stafford Disaster Assistance and Emergency Relief Act, as amended).

Dated: January 31, 2002.
Aaron Santa Anna,
Assistant General Counsel for Regulations.

[FR Doc. 02-2886 Filed 2-6-02; 8:45 am]

BILLING CODE 4210-29-P